NUCLEAR WASTE TECHNICAL REVIEW BOARD

Notice of Members of Senior Executive Service Performance Review Board

This notice announces the membership of the U.S. Nuclear Waste Technical Review Board (NWTRB) Senior Executive Service (SES) Performance Review Board (PRB).

DATES: Effective immediately and until December 10, 2025.

ADDRESSES: Send comments concerning this notice to: U.S. Nuclear Waste Technical Review Board, Clarendon Blvd., Suite 1300, Arlington, VA 22201-3367.

FOR FURTHER INFORMATION CONTACT: Kimberly Brown, Human Resources Specialist, brown@nwtrb.gov, 703-235-4473.

SUPPLEMENTARY INFORMATION: Section 4314(c)(1) through (5) of Title 5 of the United States Code, requires each agency to establish, in accordance with regulations prescribed by the Office of Personnel Management, one or more SES Performance Review Boards. Section 4314(c)(4) of Title 5 requires that notice of appointment of board members be published in the Federal Register.

The following executives have been designated as members of the Performance Review Board for the U.S. Nuclear Waste Technical Review Board:

R. Todd Davis, Associate Technical Director, Nuclear Programs and Analysis, Defense Nuclear Facilities Safety Board

Michael A. Mikolanis, Manager, Savannah River Field Office, National Nuclear Security Administration

Mark T. Sautman, Acting Deputy Technical Director, Defense Nuclear Facilities Safety Board

Gregory Sosson, Associate Principal Deputy Assistant Secretary Field Operations, Office of Environmental Management, U.S. Department of Energy

Christopher Roscetti, Deputy Director for Environment, Health, and Safety, U.S. Department of Energy

Dated: December 10, 2024.
Neysa M. Slater-Chandler,
Director of Administration, U.S. Nuclear Waste Technical Review Board.

[FR Doc. 2024-29671 Filed 12-16-24; 8:45 am]

BILLING CODE 6820-AM-P